DEPARTMENT OF ENERGY

Federal Energy Regulatory Commission

[Project No. 11845-001]

Notice of Transfer of Exemption; The Harrisburg Authority, Capital Region Water

October 17, 2018.

1. By letter filed October 1, 2018, The Harrisburg Authority informed the Commission that the exemption from licensing for the Harrisburg Water Supply Project No. 11845, originally issued September 12, 2000 ¹ has been transferred from The Harrisburg Authority to Capital Region Water. The project pipe runs between the DeHart Reservoir and the Harrisburg water treatment plant in Daupin County, Pennsylvania. The transfer of an exemption does not require Commission approval.

¹ Order Granting Exemption From Licensing (Conduit). The Harrisburg Authority, 92 FERC ¶ 62,212 (2000).

2. Capital Region Water is now the exemptee of the Harrisburg Water Supply Project No. 11845. All correspondence should be forwarded to: Mr. Michael McFadden, Director of Water Operations, Capital Region Water, 100 Pine Drive, Harrisburg, PA 17103, Phone: 888-510-0606, Email: michael.mcfadden@capitalwaterregion.com and Ms. Tanya Dierolf, Manager of Sustainability & Strategic Projects, Capital Water Region, 212 Locust Street, Suite 500, Harrisburg, PA 17101, Phone: 888-510-0606, Email: tanya.dierolf@capitalregionswater.com.

Dated: October 17, 2018.
Kimberly D. Bose,
Secretary.

[FR Doc. 2018-23118 Filed 10-22-18; 8:45 am]

BILLING CODE 6717-01-P